DEPARTMENT OF ENERGY

Federal Energy Regulatory Commission

[Docket No. ER00-2173-002, et al.]

Northern Indiana Public Service Company, et al.; Electric Rate and Corporate Filings

January 26, 2004.

The following filings have been made with the Commission. The filings are listed in ascending order within each docket classification.

1. Northern Indiana Public Service Company, EnergyUSA-TPC Corp., Whiting Clean Energy, Inc.

[Docket No. ER00-2173-002]

Take notice that on January 15, 2004, Northern Indiana Public Service Company (NIPSCO), EnergyUSA-TPC Corp. (TPC), and Whiting Clean Energy, Inc. (Whiting) (jointly NiSource Companies) tendered for filing their three-year analysis regarding market power in the relevant generation markets. In addition, TPC and Whiting submitted revised market-based rate tariffs incorporating the market behavior rules adopted by the Commission on November 17, 2003, in Docket Nos. EL01-118-000 and 001.

Comment Date: February 5, 2004.

2. PJM Interconnection, LLC

[Docket No. ER04-368-001]

Take notice that on January 16, 2004, PJM Interconnection, LLC (PJM), submitted for filing a substitute construction service agreement (CSA) among PJM, Borough of Chambersburg and Monongahela Power Company, the Potomac Edison Company, and West Penn Power Company, all doing business as Allegheny Power. PJM requests a waiver of the Commission's 60-day notice requirement to permit a December 17, 2003, effective date for the substitute CSA.

PJM states that copies of this filing were served upon the parties to the agreements, the state regulatory commissions within the PJM region, and the official service list compiled by the Secretary in this proceeding.

Comment Date: February 6, 2004.

3. The Connecticut Light and Power Company

[Docket No. ER04-408-000]

Take notice that on January 16, 2004, Northeast Utilities Service Company (NUSCO), on behalf of its affiliate, the Connecticut Light and Power Company (CL&P), filed the executed Original Service Agreement No. 104 (the Service Agreement) by and between CL & P and Lake Road Trust (Lake Road) under Northeast Utilities System Companies' Open Access Transmission Tariff No. 10. NUSCO requests an effective date of December 31, 2003, for the Service Agreement, and requests any waivers of the Commission's regulations that may be necessary to permit such an effective date.

NUSCO states that a copy of this filing has been sent to Lake Road.

Comment Date: February 6, 2004.

4. PJM Interconnection, LLC

[Docket No. ER04-410-000]

Take notice that on January 16, 2004, PJM Interconnection, LLC (PJM), submitted for filing an executed interconnection service agreement (ISA) among PJM and Borough of Chambersburg, and Monongahela Power Company, the Potomac Edison Company, and West Penn Power Company, all doing business as Allegheny Power. PJM requests a waiver of the Commission's 60-day notice requirement to permit a December 17, 2003, effective date for the ISA.

PJM states that copies of this filing were served upon the parties to the agreement and the state regulatory commissions within the PJM region.

Comment Date: February 6, 2004.

5. Niagara Mohawk Power Corporation

[Docket No. ER04-411-000]

Take notice that on January 16, 2004, Niagara Mohawk Power Corporation, a National Grid Company (Niagara Mohawk), tendered for filing Original Service Agreement No. 333 (Service Agreement) between Niagara Mohawk and Besicorp-Empire Power Company, LLC (POWER CO.) under the New York Independent System Operator's FERC Electric Tariff, Original Volume No. 1.

Comment Date: February 6, 2004.

6. The Connecticut Light and Power Company

[Docket No. ER04-412-000]

Take notice that on January 16, 2004, Northeast Utilities Service Company (NUSCO), on behalf of its affiliate, the Connecticut Light and Power Company (CL&P), filed executed Original Service Agreement No. 105 by and between CL&P and Waterside Power, LLC (Waterside) under Northeast Utilities System Companies' Open Access Transmission Tariff No. 10. NUSCO and Waterside request an effective date of January 16, 2004.

NUSCO states that a copy of this filing has been sent to Waterside.

Comment Date: February 6, 2004.

7. Maine Public Service Company

[Docket No. ER04-420-000]

Take notice that on January 16, 2004, Maine Public Service Company (MPS) submitted for filing an executed interconnection agreement between MPS and Boralex Fort Fairfield, Inc. MPS requests an effective date of January 7, 2004, for the agreement.

MPS states that copies of this filing were served upon Boralex Fort Fairfield, Inc., the Maine Public Service Commission, and the Maine Office of Public Advocate.

Comment Date: February 6, 2004.

8. Western Massachusetts Electric Company

[Docket No. ER04-421-000]

Take notice that on January 16, 2004, Northeast Utilities Service Company (NUSCO), on behalf of its affiliate, Western Massachusetts Electric Company (WMECO), filed an executed Interconnection and Operations Agreement by and between WMECO and Berkshire Power Company, LLC (Berkshire Power) designated as Original Service Agreement No. 103 (Service Agreement) under Northeast Utilities System Companies' Open Access Transmission Tariff No. 10. NUSCO and Berkshire Power request an effective date for the Service Agreement of January 20, 2004, and request any waivers of the Commission's regulations that may be necessary to permit such an effective date.

NUSCO states that a copy of this filing has been sent to Berkshire Power.

Comment Date: February 6, 2004.

9. American Transmission Company LLC

[Docket No. ER04-422-000]

Take notice that on January 16, 2004, American Transmission Company LLC (ATCLLC) tendered for filing a Generation-Transmission Interconnection Agreement between ATCLLC and White Pine Copper Refinery, Inc. ATCLLC requests an effective date of January 16, 2004.

Comment Date: February 6, 2004.

10. Niagara Mohawk Power Corporation

[Docket No. ER04-423-000]

Take notice that on January 16, 2004, Flat Rock Windpower, LLC (Flat Rock), pursuant to a request by Niagara Mohawk Power Corporation, a National Grid Company (Niagara Mohawk), filed an Interconnection Service Agreement between Flat Rock and Niagara Mohawk (the Agreement) subject to the NYISO's Open Access Transmission Tariff. On behalf of Niagara Mohawk, Flat Rock requests an effective date of January 16, 2004, for the Agreement and seeks a waiver of the Commission's prior notice requirement.

Flat Rock states that it has served a copy of the filing on Niagara Mohawk, the NYISO and the New York State Public Service Commission.

Comment Date: February 6, 2004.

11. Valley Electric Association, Inc.

[Docket No. ER04-424-000]

Take notice that on January 16, 2004, Valley Electric Association, Inc. (Valley) tendered for filing an Interconnection Agreement between Valley and Ivanpah Energy Center, LP designated as Service Agreement No. 1 under Valley's Open Access Transmission Tariff.

Comment Date: February 6, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-168 Filed 2-2-04; 8:45 am]

BILLING CODE 6717-01-P